ELECTION ASSISTANCE COMMISSION

Information Collection Activity; Study of Alternative Voting Methods

AGENCY: Election Assistance Commission (EAC).

ACTION: Notice; request for comments.

SUMMARY: The EAC, as part of its continuing effort to reduce paperwork and respondent burden in accordance with the Paperwork Reduction Act of 1995, invites the general public and other Federal agencies to take this opportunity to comment on a proposed information collection. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarizeed and/or included in the request for OMB approval of this information collection; they also will become a matter of public record.

DATES: Written comments must be submitted on or before March 9, 2007.

ADDRESSES: Submit comments and recommendations on the proposed information collection in writing to the U.S. Election Assistance Commission, 1225 New York Avenue, NW., Suite 1100, Washington, DC 20005, ATTN: Ms. Laiza N. Otero (or via the Internet at lotero@eac.gov).

FOR FURTHER INFORMATION CONTACT: To request more information on this proposed information collection or to obtain a copy of the survey, please write to the above address or call Ms. Laiza N. Otero at (202) 566-3100. You may also view the proposed collection instrument by visiting our Web site at http://www.eac.gov.

SUPPLEMENTARY INFORMATION:

Title: Study of Alternative Voting Methods.

OMB Number: Pending.

Type of Review: Regular submission.

Needs and Uses: Section 241 of the Help America Vote Act (HAVA) requires the U.S. Election Assistance Commission (EAC) to periodically study election administration issues with the goal of promoting voting methods and improving election administration. Section 241(b)(10) instructs the EAC to study the feasibility and advisability of conducting elections for Federal office on different days, at different places, and during different hours. In addition, it recommends the study include a discussion of the advisability of establishing a uniform poll closing time and establishing:

(A) A legal public holiday under section 6103 of title 5 United States Code, as the date on which general elections for Federal office are held;

(B) The Tuesday after the 1st Monday in November, in every even numbered year, as a legal public holiday under such section;

(C) A date other than the Tuesday next after the 1st Monday in November, in every even numbered year as the date on which general elections for Federal office are held; and

(D) Any date described in subparagraph (C) as a legal public holiday under such section.

To provide information to the States and the Congress on the feasibility and advisability of using alternative days, times, and places to conduct Federal elections, the EAC seeks to survey voters to better understand their motivations and perceptions of impediments to voting. The survey will provide insights into the public's perceptions of particular aspects of the voting process.

Affected Public: Citizens.

Number of Respondents: 3,000.

Responses per Respondent: 1.

Estimated Burden per Response: .25 hours.

Estimated Total Annual Burden Hours: 750 hours.

Frequency: One time collection.

Information will be collected through a statistically valid survey of 3,000 registered voters to determine how they currently respond to alternative voting methods (if in a State that offers them) or would respond to alternative voting methods (if in a State that does not allow them). The survey will be representative of the 50 States, the District of Columbia, and U.S. territories. The topics that will be explored include, but are not limited to:

a. Voting by mail

b. Voting at a consolidated polling center

c. Voting online

d. Voting earlier/later on Election Day

e. Voting on weekend day

f. Voting on day other than first Tuesday in November

g. Making the day on which Federal elections are held a Federal holiday

h. No alternative voting method, prefer status quo

The survey will gather data regarding each respondent's background. Background information will include, but is not limited to, (1) Respondents' voter registration history, (2) respondents' voting history, and (3) standard demographic questions covering (age, ethnicity, education, employment status, and income bracket).

Thomas R. Wilkey,
Executive Director, U.S. Election Assistance Commission.

[FR Doc. 07-27 Filed 1-8-07; 8:45 am]

BILLING CODE 6820-KF-M